DEPARTMENT OF ENERGY

Federal Energy Regulatory Commission

Notice of Amendment of License and Soliciting Comments, Motions To Intervene, and Protests

January 14, 2000.

Take notice that the following hydroelectric application has been filed with the Commission and is available for public inspection:

a. Application Type: Non-Project Use of Project Lands and Waters.

b. Project No.: 1951-071.

c. Date Filed: December 10, 1999.

d. Applicant: Georgia Power Company.

e. Name of Project: Sinclair.

f. Location: The Sinclair Project is located on the Oconee river in Putnam, Hancock, and Baldwin Counties, Georgia. This project does not utilize Tribal lands. This project utilizes lands within the Oconee National Forest.

g. Filed Pursuant to: Federal Power Act, 16 U.S.C. 791(a)-825(r).

h. Applicant Contact: Larry J. Wall, Georgia Power Company, 241 Ralph McGill Boulevard NE, Atlanta Georgia 30308-3374 telephone (404) 506-2054.

i. FERC Contact: Any questions on this notice should be addressed to Jon Cofrancesco at Jon. Cofrancesco@ferc.fed.us or telephone 202-219-0079.

j. Deadline for filing comments and or motions: February 18, 2000.

All documents (original and eight copies) should be filed with: David P. Boergers, Secretary, Federal Energy Regulatory Commission, 888 First Street, NE., Washington, DC 20426.

Please include the project number (1951-071) on any comments or motions filed.

k. Description of Project: Georgia Power Company, licensee for the Sinclair Project, requests Commission authorization to permit Mr. Scott Jackson to construct and operate commercial dock facilities on the shoreline of Lake Sinclair's Beaver Dam Creek adjacent to the U.S. 441 bridge. The proposed facilities include three open boat docks with 24 slips that can accommodate up to approximately 46 watercraft; a fuel dock; a concrete boat ramp; and concrete boat drop. The proposed facilities are part of a planned commercial facility located on the adjoining lands outside the project boundary (the 343′ contour line). The commercial facility includes a dry boat storage building, a parking lot, and a gasoline station with a convenience store.

l. Locations of the application: A copy of the application is available for inspection and reproduction at the Commission's Public Reference Room, located at 888 First Street, NE, Room 2A, Washington, DC 20426, or by calling (202) 208-1371. The application may be viewed on the web at www.ferc.fed.us. Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-1429 Filed 1-20-00; 8:45 am]

BILLING CODE 671700-0100-M